SECURITIES AND EXCHANGE COMMISSION

17 CFR Part 200

[Release Nos. 34-62575A and PA-47A; File No. S7-19-11]

Authority Citation Correction

AGENCY: Securities and Exchange Commission.

ACTION: Final rule; technical amendment.

SUMMARY: On August 6, 2010 and September 16, 2011, the Securities and Exchange Commission (“Commission”) published documents in the Federal Register (75 FR 47449 and 76 FR 57637, respectively) that each included an inaccurate amendatory instruction pertaining to an authority citation. The Commission is publishing this technical amendment to accurately reflect the authority citation in the Code of Federal Regulations.

DATES: Effective Date: January 23, 2013.

FOR FURTHER INFORMATION CONTACT: Linda Cullen, Office of the Secretary, at (202) 551-5402; Securities and Exchange Commission, 100 F Street NE., Washington, DC 20549-1090.

SUPPLEMENTARY INFORMATION: The final rules that are subject to this correction included inaccurate amendatory instructions that resulted in the publication of two Editorial Notes to Part 200. This document is intended only to correct the authority citation to subpart A of Part 200 and remove the two Editorial Notes and does not affect any other aspects of the two original final rules.

List of Subjects in 17 CFR Part 200

Administrative practice and procedure, Authority delegations (Government agencies), Organization and functions (Government agencies), Privacy.

Accordingly, Title 17, Chapter II of the Code of Federal Regulations is amended as follows:

PART 200—ORGANIZATION; CONDUCT AND ETHICS; AND INFORMATION AND REQUESTS

1. The general authority citation for part 200, subpart A is revised, and a sectional authority for § 200.312 is added to part 200, subpart A in numerical order, to read as follows:

Authority: 15 U.S.C. 77o, 77s, 77sss, 78d, 78d-1, 78d-2, 78w, 78ll(d), 78mm, 80a-37, 80b-11, 7202, and 7211 et seq., unless otherwise noted.

* * * * *

Section 200.312 is also issued under 5 U.S.C. 552a(k).

* * * * *

Dated: January 15, 2013.
Elizabeth M. Murphy,
Secretary.

[FR Doc. 2013-01202 Filed 1-22-13; 8:45 am]

BILLING CODE 8011-01-P